AFRICAN DEVELOPMENT FOUNDATION

Meeting: African Development Foundation, Board of Directors Meeting

Time: Tuesday, October 13, 2009, 9 a.m. to 12 p.m.

Place: African Development Foundation, Conference Room, 1400 I Street, NW., Suite 1000, Washington, DC 20005.

Date: Tuesday, October 13, 2009.

Status:

1. Open session, Tuesday, October 13, 2009, 9 a.m. to 11 a.m.; and

2. Closed session, Tuesday, October 13, 2009, 11 a.m. to 12 p.m.

Due to security requirements and limited seating, all individuals wishing to attend the open session of the meeting must notify Michele M. Rivard at (202) 673-3916 or mrivard@usadf.gov of your request to attend by 5 p.m. on Thursday, October 8, 2009.

Lloyd O. Pierson,
President.

[FR Doc. E9-23526 Filed 9-29-09; 8:45 am]

BILLING CODE 6117-01-P